ENVIRONMENTAL PROTECTION AGENCY

[FRL OPRM-FAD-209]

Environmental Impact Statements; Notice of Availability

Responsible Agency: Office of Federal Activities, General Information 202-993-3272 or https://www.epa.gov/nepa.

Weekly receipt of Environmental Impact Statements (EIS)

Filed February 2, 2026 10 a.m. EST Through February 9, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20260009, Final, FERC, CA, FEIS for Dam Retrofit and Surrender of the Anderson Dam Hydroelectric Project Exemption, Review Period Ends: 03/16/2026, Contact: Office of External Affairs, 866-208-3372.

EIS No. 20260010, Draft, NRCS, MT, Draft Watershed Plan-Environmental Impact Statement for the Milk River and St. Mary River Watersheds, Comment Period Ends: 03/30/2026, Contact: Alyssa Fellow, 406-587-6712.

EIS No. 20260011, Final Supplement, TVA, TN, Continued Operation of Cumberland Fossil Plant, Contact: Erica McLamb, 423-751-8022.

EIS No. 20260012, Final Supplement, TVA, TN, Continued Operation of the Kingston Fossil Plant, Contact: Elizabeth Smith, 865-632-3053.

Dated: February 9, 2026.
Nancy Abrams,
Deputy Director, Federal Activities Division.

[FR Doc. 2026-02944 Filed 2-12-26; 8:45 am]

BILLING CODE 6560-50-P